DEPARTMENT OF TRANSPORTATION

Federal Aviation Administration

14 CFR Part 39

[Docket No. FAA-2010-0272; Directorate Identifier 2010-CE-009-AD]

RIN 2120-AA64

Airworthiness Directives; AVOX Systems and B/E Aerospace Oxygen Cylinders as Installed on Various 14 CFR Part 23 and CAR 3 Airplanes

AGENCY: Federal Aviation Administration (FAA), Department of Transportation (DOT).

ACTION: Notice of proposed rulemaking (NPRM).

SUMMARY: We propose to adopt a new airworthiness directive (AD) for certain AVOX Systems and B/E Aerospace oxygen cylinders, as installed on various 14 CFR part 23 or CAR 3 airplanes. This proposed AD would require inspecting for and removing substandard oxygen cylinders from the airplane. This proposed AD was prompted by the reported rupture of a high-pressure gaseous oxygen cylinder, which had insufficient strength characteristics due to improper heat treatment. We are proposing this AD to prevent an oxygen cylinder from rupturing, which, depending on the location, could result in structural damage and rapid decompression of the airplane, damage to adjacent essential flight equipment, deprivation of the necessary oxygen supply for the flightcrew, and injury to cabin occupants or other support personnel.

DATES: We must receive comments on this proposed AD by May 3, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact B/E Aerospace, Inc., Commercial Aircraft Products Group, RGA Department, 10800 Pflumm Road, Lenexa, Kansas 66215; telephone: (913) 338-9800; fax: (913) 338-8419; Internet: http://www.beaerospace.com; and AVOX Systems, 225 Erie Street, Lancaster, New York 14086-9502; telephone: (716) 683-5100; fax: (716) 681-1089; Internet: http://www.avoxsys.com, as applicable.

FOR FURTHER INFORMATION CONTACT: David Hirt, Aerospace Engineer, FAA, Small Airplane Directorate, 901 Locust, Room 301, Kansas City, Missouri 64106; telephone: (816) 329-4050; fax: (816) 329-4090; e-mail: david.hirt@faa.gov.

SUPPLEMENTARY INFORMATION:

Comments Invited

We invite you to send any written relevant data, views, or arguments regarding this proposed AD. Send your comments to an address listed under the ADDRESSES section. Include the docket number, “FAA-2010-0272; Directorate Identifier 2010-CE-009-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

During routine hydrostatic testing, a United States Department of Transportation Type 3HT-1850 high-pressure gaseous oxygen cylinder ruptured under what would be considered normal operating conditions. Further investigation indicates that the cylinder had insufficient strength characteristics due to improper heat treatment. The improper heat treatment is limited to specific production batches, but the affected oxygen cylinders may be installed on various 14 CFR part 23 or CAR 3 airplanes and aircraft certificated in other categories.

The oxygen cylinders contain gaseous oxygen under high pressure. Rupture of an oxygen cylinder, depending on its location, could result in structural damage and rapid decompression of the airplane, damage to adjacent essential flight equipment, deprivation of the necessary oxygen supply for the flightcrew, and injury to cabin occupants or maintenance or other support personnel.

Relevant Service Information

We have reviewed B/E Aerospace Service Bulletin 176000-35-01, dated November 2, 2009; and Zodiac Aerospace AVOX Systems Inc. Service Bulletin 6084-34-35-01, Revision 1, dated December 9, 2009.

The service information describes procedures for inspecting the oxygen cylinder to determine the serial number and for removing affected oxygen cylinders.

FAA's Determination and Requirements of the Proposed AD

We are proposing this AD because we evaluated all information and determined the unsafe condition described previously is likely to exist or develop on other products of the same type design. This proposed AD would require removing the affected oxygen cylinder from various 14 CFR part 23 or CAR 3 airplanes.

Costs of Compliance

We estimate that this proposed AD would affect 10,000 airplanes in the U.S. registry.

We estimate the following costs to do the proposed inspection:

Labor cost | Parts cost | Total cost per airplane | Total cost on U.S. operators based on all airplanes having the affected oxygen cylinder installed
0.5 work-hour × $85 per hour = $42.50 | Not applicable | $42.50 | $425,000

We estimate the following costs to do any necessary removal and replacement that would be required based on the results of the proposed inspection. We have no way of determining the number of airplanes that may need this replacement:

Labor cost | Parts cost | Total cost per airplane
2 work-hours × $85 per hour = $170 | $1,675 | $1,845

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

AVOX Systems and B/E Aerospace: Docket No. FAA-2010-0272; Directorate Identifier 2010-CE-009-AD.

Comments Due Date

(a) We must receive comments on this airworthiness directive (AD) action by May 3, 2010.

Affected ADs

(b) None.

Applicability

(c) This AD applies to oxygen cylinders with a capacity of 114/115 cubic feet, approved under United States Department of Transportation Regulations for Type 3HT cylinders, identified in Table 1 of this AD. These oxygen cylinders may be installed on various 14 CFR part 23 and CAR 3 airplanes, certificated in any category. The affected oxygen cylinders may be installed as a component of, but not limited to, the AVOX Systems Inc. and B/E Aerospace cylinder assemblies listed in Table 2 of this AD.

Table 1—Affected Oxygen Cylinder Serial Numbers (S/N)
Cylinder manufacturer | Affected S/N
AVOX Systems | ST82307 through ST82309.
| ST82335 through ST82378.
| ST82385 through ST82506, except ST82498 (out of service).
| ST82550 through ST82606.
| ST82617 through ST82626.
| ST83896 through ST83905.
| ST84209 through ST84218.
| ST84224 through ST84236.
| ST86138, ST86143, ST86145, ST86150, ST86169, ST86172, and ST86177.
| ST86299 through ST86307.
B/E Aerospace | K495120 through K495121.
| K629573 through K629577.
| K674451 through K674455.

Table 2—Affected Oxygen Cylinder Assembly Part Numbers (P/N)
Manufacturer | P/Ns
AVOX Systems | *6350A34 series, 800112-03, 800112-10, 800112-13, 801293-03, 801307-00, 801307-01, 801307-02, 801307-03, 801307-07, 801307-09, 801307-23, 801307-24, 801365-04, 801365-14, 801375-00, 801977-05, and *8915 series. (*For example, 6350A34-X-X or 8915XX-XX, where “X” denotes a P/N digit).
B/E Aerospace | 176018-115, 176112-115, 176177-115, 176181-115, and 176529-97.

Subject

(d) Air Transport Association of America (ATA) Code 35: Oxygen.

Unsafe Condition

(e) This AD was prompted by the reported rupture of a high-pressure gaseous oxygen cylinder, which had insufficient strength characteristics due to improper heat treatment. We are issuing this AD to prevent an oxygen cylinder from rupturing, which, depending on the location, could result in structural damage and rapid decompression of the airplane, damage to adjacent essential flight equipment, deprivation of the necessary oxygen supply for the flightcrew, and injury to cabin occupants or other support personnel.

Compliance

(f) To address this problem, you must do the following, unless already done:

(1) Within 60 days after the effective date of this AD, inspect the oxygen cylinder installed in the airplane to determine the serial number. The serial number is stamped into the steel cylinder near the neck. A review of airplane records is acceptable in lieu of this inspection if the serial number of the oxygen cylinder can be positively determined from that review. For any oxygen cylinder that has a serial number identified in Table 1 of this AD, before further flight, remove it from the airplane and replace it with a serviceable oxygen cylinder. Do the inspection and removal following B/E Aerospace Service Bulletin 176000-35-01, dated November 2, 2009; and Zodiac Aerospace AVOX Systems, Inc. Service Bulletin 6084-34-35-01, Revision 1, dated December 9, 2009, as applicable.

(2) As of the effective date of this AD, do not install on any airplane a United States Department of Transportation Type 3HT oxygen cylinder that has a serial number identified in Table 1 of this AD.

Note: United States Department of Transportation hazardous materials regulations apply to the shipping of oxygen cylinders.

Alternative Methods of Compliance (AMOCs)

(g) The Manager, Standards Office, FAA, has the authority to approve AMOCs for this AD, if requested using the procedures found in 14 CFR 39.19. Send information to ATTN: David Hirt, Aerospace Engineer, FAA, Small Airplane Directorate, 901 Locust, Room 301, Kansas City, Missouri 64106; telephone: (816) 329-4130; fax: (816) 329-4090; e-mail: david.hirt@faa.gov. Before using any approved AMOC on any airplane to which the AMOC applies, notify your appropriate principal inspector (PI) in the FAA Flight Standards District Office (FSDO), or lacking a PI, your local FSDO.

Related Information

(h) To get copies of the service information referenced in this AD, contact B/E Aerospace, Inc., Commercial Aircraft Products Group, RGA Department, 10800 Pflumm Road, Lenexa, Kansas 66215; telephone: (913) 338-9800; fax: (913) 338-8419; Internet: http://www.beaerospace.com; and AVOX Systems, 225 Erie Street, Lancaster, New York 14086-9502; telephone: (716) 683-5100; fax: (716) 681-1089; Internet: http://www.avoxsys.com, as applicable. To view the AD docket, go to U.S. Department of Transportation, Docket Operations, M-30, West Building Ground Floor, Room W12-140, 1200 New Jersey Avenue, SE., Washington, DC 20590, or on the Internet at http://www.regulations.gov.

Issued in Kansas City, Missouri, on March 11, 2009.
Kim Smith,
Manager, Small Airplane Directorate, Aircraft Certification Service.

[FR Doc. 2010-5862 Filed 3-16-10; 8:45 am]

BILLING CODE 4910-13-P